DEPARTMENT OF DEFENSE

Department of the Army, Corps of Engineers

RIN 0710-AA71

Reissuance of Nationwide Permits

AGENCY: Army Corps of Engineers, DoD.

ACTION: Final notice; correction.

SUMMARY: The U.S. Army Corps of Engineers published a document in the Federal Register of February 21, 2012, a final notice concerning the reissuance of nationwide permits. On March 19, 2012, the U.S. Army Corps of Engineers published a correction to that final notice. This document contains additional corrections to the February 21, 2012, final notice.

ADDRESSES: U.S. Army Corps of Engineers, Attn: CECW-CO-R, 441 G Street NW., Washington, DC 20314-1000.

FOR FURTHER INFORMATION CONTACT: Mr. David Olson at 202-761-4922 or by email at david.b.olson@usace.army.mil or access the U.S. Army Corps of Engineers Regulatory Home Page at http://www.usace.army.mil/Missions/CivilWorks/RegulatoryProgramandPermits.aspx.

Corrections

In the Federal Register of February 21, 2012, in FR Doc. 2012-3687, the following corrections are made:

On page 10273, second column, correct the first sentence of NWP 15 to read as follows to reflect the fact that the U.S. Coast Guard authorizes bridges over navigable waters through permits issued under other statutory authorities, such as the General Bridge Act of 1946 (33 U.S.C. 525, 528, 530, and 533), instead of Section 9 of the Rivers and Harbors Act of 1899 (33 U.S.C. 401): “Discharges of dredged or fill material incidental to the construction of a bridge across navigable waters of the United States, including cofferdams, abutments, foundation seals, piers, and temporary construction and access fills, provided the construction of the bridge structure has been authorized by the U.S. Coast Guard under Section 9 of the Rivers and Harbors Act of 1899 or other applicable laws.”

On page 10287, second column, correct the first sentence of paragraph (d)(2) of general condition 31 to read as follows: “For all NWP activities that require pre-construction notification and result in the loss of greater than ½-acre of waters of the United States, for NWP 21, 29, 39, 40, 42, 43, 44, 50, 51, and 52 activities that require pre-construction notification and will result in the loss of greater than 300 linear feet of stream bed, and for all NWP 48 activities that require pre-construction notification, the district engineer will immediately provide (e.g., via email, facsimile transmission, overnight mail, or other expeditious manner) a copy of the complete PCN to the appropriate Federal or state offices (U.S. FWS, state natural resource or water quality agency, EPA, State Historic Preservation Officer (SHPO) or Tribal Historic Preservation Officer (THPO), and, if appropriate, the NMFS).”

Dated: September 18, 2012.
James R. Hannon,
Chief, Operations and Regulatory Directorate of Civil Works.

[FR Doc. 2012-23388 Filed 9-20-12; 8:45 am]

BILLING CODE 3720-52-P